EXPORT-IMPORT BANK

[Public Notice 85]

Agency Information Collection Activities: Submission for OMB Review; Comment Request

AGENCY: Export-Import Bank of the U.S.

ACTION: Notice and request for comments.

SUMMARY: The Export-Import Bank, as a part of its continuing effort to reduce paperwork and respondent burden, invites the general public and other Federal agencies to comment on the proposed information collection, as required by the Paperwork Reduction Act of 1995. The form will be used by exporters to report and pay premiums on insured shipment to various foreign buyers. Our customers will be able to submit this form on paper or electronically.

DATES: Written comments should be received on or before May 22, 2006 to be assured of consideration.

ADDRESSES: Address all comments to David Rostker, Office of Management and Budget, Office of Information and Regulatory Affairs, NEOB, Room 10202, Washington, DC 20503, (202) 395-3897.

SUPPLEMENTARY INFORMATION: Title and Form Number: Report of Premiums Payable for Exporters Only, EIB 92-29.

OMB Number: None.

Type of Review: Regular.

Need and Use: The information requested enables the applicant to provide Ex-Im Bank with the information necessary to record customer utilization and manage prospective insurance liability relative to risk premiums received.

Affected Public: The form affects entities involved in the export of U.S. goods and services.

Estimated Annual Respondents: 1,600.

Estimated Time Per Respondent: 30 Minutes.

Estimated Annual Burden: 9,600.

Frequency of Reporting or Use: Monthly.

Dated: April 13, 2006.
Solomon Bush,
Agency Clearance Officer.

BILLING CODE 6690-01-M

[FR Doc. 06-3755 Filed 4-19-06; 8:45 am]

BILLING CODE 6690-01-C